DEPARTMENT OF ENERGY

Federal Energy Regulatory Commission

[Docket No. RP06-408-000]

Reliant Energy Service, Inc. and CenterPoint Resources Corp., Complainants v. Kern River Gas Transmission Company, Respondent; Notice of Complaint

July 3, 2006.

Take notice that on June 30, 2006, Reliant Energy Services, Inc (RES) and CenterPoint Energy Resources Corp. (CERC) submitted a complaint against Kern River Gas Transmission Company (Kern River). RES states that Kern River's insistence that CERC be required to maintain a guarantee equal to the value of the reservation charges for the entire contract term of all of RES's service agreements is unreasonable and contrary to clear Commission policy. Complainants further state that Kern River's demand unduly discriminates against RES in favor of other similarly-situated shippers, that have been permitted by Kern River to post other forms of credit support. The Complainants requests the Commission to order Kern River to allow RES to post substitute forms of security in place of what was initially a guarantee provided to Kern River in 2001 by CERC's predecessor, Reliant Energy Resources Corporation.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on July 20, 2006.

Magalie R. Salas,
Secretary.

[FR Doc. E6-10813 Filed 7-10-06; 8:45 am]

BILLING CODE 6717-01-P